DEPARTMENT OF ENERGY

Federal Energy Regulatory Commission

[Docket No. RP05-202-001]

Panhandle Eastern Pipe Line Company, LP; Notice of Compliance Filing

March 15, 2005.

Take notice that on March 9, 2005, Panhandle Eastern Pipe Line Company, LP (Panhandle) filed a correction to the filing on February 28, 2005 in the above-referenced proceeding.

Panhandle states that its has come to its attention that one of the supporting schedules included in the February 28 filing did not reflect the projected market zone throughput upon which Panhandle's projected fuel percentages for the April through October 2005 period are based.

Panhandle states that copies of the filing are being sent to all customers, state agencies and parties to this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of § 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-1228 Filed 3-21-05; 8:45 am]

BILLING CODE 6717-01-P